DEPARTMENT OF ENERGY

Federal Energy Regulatory Commission

[Docket No. CP08-96-000]

Arlington Storage Company, LLC; Notice of Filing

March 24, 2008.

Take notice that on March 14, 2008, Arlington Storage Company, LLC (ASC), Two Brush Creek Boulevard, Kansas City, Missouri 64112, filed an application, pursuant to Section 7(c) of the Natural Gas Act (NGA) and Parts 157 and 284 of the Commission's Rules and Regulations, for a certificate of public convenience and necessity authorizing ASC to develop and operate a depleted reservoir of natural gas project in Steuben County, New York known as the Thomas Corners Project (Project). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Project will involve conversion of the depleted Thomas Corners Field in the Town of Bath in Steuben County, New York, into an underground gas storage facility. The Project will have a working gas storage capacity of 7.0 Bcf and interconnections with the interstate pipeline systems of Tennessee Gas Pipeline Company (TGP) and Columbia Gas Transmission Corporation (Columbia). ASC also proposes to install and operate an interconnection and metering facilities connecting to a local distribution company, Corning Natural Gas Company (Corning). ASC requests authority to charge market-based rates for the Project and proposes to commence construction in October 2008.

Any questions regarding the application are to be directed to William R. Moler, Senior Vice President, Midstream Operations, Arlington Storage Company, Two Brush Creek Boulevard, Kansas City, Missouri 64112; phone number (816) 329-5344 or by e-mail at bmoler@inergyservices.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: April 14, 2008.

Kimberly D. Bose,
Secretary.

[FR Doc. E8-6415 Filed 3-27-08; 8:45 am]

BILLING CODE 6717-01-P